DEPARTMENT OF TRANSPORTATION

Federal Aviation Administration

14 CFR Part 71

[Docket No. FAA-2022-1028; Airspace Docket No. 22-ASO-9]

Proposed Amendment and Revocation of Air Traffic Service (ATS) Routes; Eastern United States

AGENCY: Federal Aviation Administration (FAA), DOT.

ACTION: Notice of proposed rulemaking (NPRM).

SUMMARY: This action proposes to modify VHF Omnidirectional Range (VOR) Federal airways V-5, V-20, V-155, V-241, and V-321; and to remove jet routes J-37, J-55, J-79, J-121, J-174, J-191, and J-209. These changes support the VOR Minimum Operation Network (MON) project in the eastern United States.

DATES: Comments must be received on or before October 13, 2022.

ADDRESSES: Send comments on this proposal to the U.S. Department of Transportation, Docket Operations, 1200 New Jersey Avenue SE, West Building Ground Floor, Room W12-140, Washington, DC 20590; telephone: (800) 647-5527 or (202) 366-9826. You must identify FAA Docket No. FAA-2022-1028; Airspace Docket No. 22-ASO-9 at the beginning of your comments. You may also submit comments through the internet at www.regulations.gov.

FAA Order JO 7400.11F, Airspace Designations and Reporting Points, and subsequent amendments can be viewed online at www.faa.gov/air_traffic/publications/. For further information, you can contact the Airspace Policy Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the VOR Federal airway route structure in the eastern United States to maintain the efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-1028; Airspace Docket No. 22-ASO-9) and be submitted in triplicate to the Docket Management Facility (see ADDRESSES section for address and phone number). You may also submit comments through the internet at www.regulations.gov.

Commenters wishing the FAA to acknowledge receipt of their comments on this action must submit with those comments a self-addressed, stamped postcard on which the following statement is made: “Comments to FAA Docket No. FAA-2022-1028; Airspace Docket No. 20-ASO-9.” The postcard will be date/time stamped and returned to the commenter.

All communications received on or before the specified comment closing date will be considered before taking action on the proposed rule. The proposal contained in this action may be changed in light of comments received. A report summarizing each substantive public contact with FAA personnel concerned with this rulemaking will be filed in the docket.

Availability of NPRMs

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Availability and Summary of Documents for Incorporation by Reference

This document proposes to amend FAA Order JO 7400.11F, Airspace Designations and Reporting Points, dated August 10, 2021, and effective September 15, 2021. FAA Order JO 7400.11F is publicly available as listed in the ADDRESSES section of this proposed rule. FAA Order 7400.11F lists Class A, B, C, D, and E airspace areas, air traffic service routes, and reporting points.

The Proposal

The FAA is proposing an amendment to 14 CFR part 71 to modify five VOR Federal airways (V-5, V-20, V-155, V-241, and V-321); and to remove seven jet routes (J-37, J-55, J-79, J-121, J-174, J-191, and J-209). These changes support the planned decommissioning of one or more of the following ground-based navigation aids under the VOR MON project in the eastern United States: Columbus, GA (CSG), VHF Omnidirectional Range and Tactical Air Navigational System (VORTAC); Electric City, SC (ELW), VORTAC; Choo Choo, GA (GQO), VORTAC; Nottingham, MD (OTT), VORTAC; Patuxent, MD (PXT), VORTAC; Sugarloaf Mountain, NC (SYG), VORTAC; Tuskegee, AL (TGE), VHF Omnidirectional Range/Distance Measuring Equipment (VOR/DME). The proposed changes are described below.

V-5: V-5 extends from Pecan, GA, to Appleton, OH. The FAA proposes to remove the segments from the intersection of the Athens, GA 340° and the Electric City, SC 274° radials, to Choo Choo, GA. As amended, V-5 would extend, in two parts, from Pecan, GA to Athens, GA; and from New Hope, KY, to Appleton, OH.

V-20: V-20 extends, in two parts, from McAllen, TX, to Palacios, TX; and from Beaumont, TX, to Nottingham, MD. This action proposes to remove the segments between Tuskegee, AL, and Sugarloaf Mountain, NC; and remove the segments between the intersection of the Richmond, VA 039° and the Brooke, VA 132° radials, and Nottingham, MD. As amended, V-20 would consist of three parts: From McAllen, TX, to Palacios, TX; From Beaumont, TX, to Montgomery, AL; and From Barretts Mountain, NC to Richmond, VA. In addition the wording “The airspace within R-4007A and R-4007B is excluded” would be remove from the route description because the amended route would no longer pass in the vicinity of the restricted areas.

V-155: V-155 extends from Columbus, GA to Brooke, VA. The FAA proposes to remove the segments from Columbus, GA to the intersection of the Columbus 068° and the Colliers, SC, 243° radials (the charted SINCA Fix). The SINCA, GA, Fix would be redefined by replacing the Columbus radial with the Dublin, GA, 309°(T)/314°(M) radial. This supports the scheduled decommissioning of the Columbus, GA (CSG), VORTAC. As amended, V-155 would extend from the intersection of the Dublin, GA, 309°(T)/314°(M) and Colliers, SC 243° radials, to Brooke, VA.

V-241: V-241 extends from Semmes, AL to the intersection of the Columbus, GA 010° and the LaGrange, GA 048° radials (the charted TIROE, GA, Fix). The FAA proposes to remove the segments from Columbus, GA to the TIROE Fix. The intersection of the Eufaula, AL 008°(T)/006°(M) and the LaGrange, GA 160°(T)/159°(M) would be used in place of the Columbus, GA VORTAC. As amended, V-241 would extend from Semmes, AL, to the intersection of the Eufaula, AL 008°(T)/006°(M) and the LaGrange, GA 160°(T)/159°(M) radials.

V-321: V-321 extends from Pecan, GA to Livingston, TN. The FAA proposes to remove the Columbus, GA (CSG), VORTAC from the route and replace it with the intersection of the Pecan, GA 327°(T)/329°(M) and the LaGrange, GA 160°(T)/159°(M) radials. Otherwise, V-321 would still extend from Pecan, GA, to Livingston, TN as currently charted.

J-37: J-37 consists of three parts: From Harvey, LA; to Montgomery, AL; from Lynchburg, VA; to Coyle, NJ; and From Kennedy, NY; to Albany, NY. The FAA proposes to remove the entire route. RNAV routes Q-22, Q-127, and Q-479 are being published as a partial overlay and replacement of J-37.

J-55: J-55 consists of two parts: From the intersection of the Flat Rock, VA, 212° and Raleigh-Durham, NC, 224° radials; to the intersection of the Hopewell, VA 030° and Nottingham, MD, 174° radials; and From Sea Isle, NJ; to Presque Isle, ME. This action proposes to remove the entire routs. RNAV routes Q-167, Q-220, Q-439, and Q-445 will be published to replace J-55, reflecting current traffic flows in the area.

J-79: J-79 extends from Charleston, SC to Bangor, ME. This action proposes to remove the entire route. RNAV route Q-133 will be published as a partial overlay and replacement of J-79.

J-121: J-121 extends from Charleston, SC; to the intersection of the Sea Isle, NJ 050° and the Cedar Lake, NJ 091° radials. This action proposes to remove the entire route. RNAV route Q-109 will be published as a partial overlay and replacement of J-121.

J-174: J-174 extends from Charleston, SC, to the intersection of the Marconi, MA 090° and Nantucket, MA, 066° radials. This action proposes to remove the entire route. RNAV route Q-97 will be published as a partial overlay and replacement of J-174.

J-191: J-191 extends from Hopewell, VA to Wilmington, NC. This action proposes to remove the entire route. RNAV routes Q-85 and Q-409 will be published to replace J-191, reflecting current traffic flows in this area.

J-209: J-209 extends from Raleigh-Durham, NC to the intersection of the Coyle, NJ 036° and the Robbinsville, NJ, 136° radials. This action proposes to remove the entire route. The route is no longer used by air traffic control and no overlay is required. Other Performance Based Navigation structure will be implemented reflecting current traffic flows in this area.

When new navigation aid radials are proposed in an NPRM, both True North (T) and Magnetic North (M) values are stated in route descriptions. Only True North is specified in any subsequent final rules.

Domestic VOR Federal airways are published in paragraph 6010(a), and jet routes are published in paragraph 2004, respectively, of FAA Order JO 7400.11F, dated August 10, 2021, and effective September 15, 2021, which is incorporated by reference in 14 CFR 71.1. The VOR Federal airways and jet routes listed in this document would be subsequently published in, or removed from FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6010(a) Domestic VOR Federal Airways.

* * * * *

V-5 [Amended]

From Pecan, GA; Vienna, GA; Dublin, GA; to Athens, GA. From New Hope, KY; Louisville, KY; Cincinnati, OH; to Appleton, OH.

* * * * *

V-20 [Amended]

From McAllen, TX, INT McAllen 038° and Corpus Christi, TX, 178° radials; 10 miles 8 miles wide, 37 miles 7 miles wide (3 miles E and 4 miles W of centerline), Corpus Christi; INT Corpus Christi 054° and Palacios, TX, 226° radials; to Palacios. From Beaumont, TX; Lake Charles, LA; Lafayette, LA; Reserve, LA; INT Reserve 084° and Gulfport, MS, 247° radials; Gulfport; Semmes, AL; INT Semmes 048° and Monroeville, AL, 231° radials; Monroeville; to Montgomery, AL; From Barretts Mountain, NC; South Boston, VA; to Richmond, VA. The airspace on the main airway above 14,000 feet MSL from McAllen to 49 miles northeast and the airspace within Mexico is excluded.

* * * * *

V-155 [Amended]

From INT Dublin, GA 309°(T)/314°(M) and Colliers, SC, 243° radials; Colliers; Chesterfield, SC; Sandhills, NC; Raleigh-Durham, NC; Lawrenceville, VA; INT Lawrenceville 034° and Flat Rock, VA, 171° radials; Flat Rock; to Brooke, VA. The airspace within R-6602A is excluded.

* * * * *

V-241 [Amended]

From Semmes, AL, via Crestview, FL; INT Crestview 076° and Wiregrass, AL, 232° radials; Wiregrass; Eufaula, AL; to INT Eufaula, AL 008°(T)/006° (M) and LaGrange, GA, 160°(T)/159°(M) radials.

* * * * *

V-321 [Amended]

From Pecan, GA, via INT Pecan 327°(T)/329°(M) and LaGrange, GA, 160°(T)/159°(M) radials; LaGrange; INT LaGrange 342° and Gadsden, AL, 124° radials; Gadsden; INT Gadsden 333° and Rocket, AL, 149° radials; Rocket, Shelbyville, TN; to Livingston, TN.

* * * * *

Paragraph 2004 Jet Routes.

* * * * *

J-37 [Removed]

* * * * *

J-55 [Removed]

* * * * *

J-79 [Removed]

* * * * *

J-121 [Removed]

* * * * *

J-174 [Removed]

* * * * *

J-191 [Removed]

* * * * *

J-209 [Removed]

* * * * *

Issued in Washington, DC, on August 23, 2022.
Scott M. Rosenbloom,
Manager, Airspace Rules and Regulations.

[FR Doc. 2022-18485 Filed 8-26-22; 8:45 am]

BILLING CODE 4910-13-P